DEPARTMENT OF DEFENSE

Office of the Secretary

[Docket ID: DoD-2024-OS-0050]

Privacy Act of 1974; System of Records

AGENCY: Department of Defense (DoD).

ACTION: Notice of a new system of records.

SUMMARY: In accordance with the Privacy Act of 1974, the DoD is establishing a new system of records covering all DoD components titled, “Military Human Resource Records,” DoD-0020. This system of records describes DoD's collection, use, and maintenance of records about members of the armed services, including active duty, reserve, and guard personnel. Records support Department requirements and individual Service members' careers, through the collection and management of personnel and employment data. This information includes individual's pay and compensation, education, assignment history, grade/rank and promotion determinations, separation and retirement actions, performance information, awards, and career milestones. Additionally, DoD is issuing a Notice of Proposed Rulemaking, which proposes to exempt this system of records from certain provisions of the Privacy Act, elsewhere in today's issue of the Federal Register.

DATES: This system of records is effective upon publication; however, comments on the Routine Uses will be accepted on or before June 14, 2024. The Routine Uses are effective at the close of the comment period.

ADDRESSES: You may submit comments, identified by docket number and title, by any of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Privacy, Civil Liberties, Division, Directorate for Privacy, Civil Liberties and FOIA, Office of the Assistant to the Secretary of Defense for Privacy, Civil Liberties, and Freedom of Information, Department Defense, 4800 Mark Center Drive, Mailbox #24, Suite 08D09, Alexandria, VA 22350-1700; OSD.DPCLTD@mail.mil; (703) 571-0070.

SUPPLEMENTARY INFORMATION:

I. Background

DoD is establishing the Military Human Resource Records, DoD-0020 as a DoD-wide Privacy Act system of records. A DoD-wide system of records notice (SORN) supports multiple DoD paper or electronic recordkeeping systems operated by more than one DoD component that maintain the same kind of information about individuals for the same purpose. The establishment of DoD-wide SORNs helps DoD standardize the rules governing the collection, maintenance, use, and sharing of personal information in key areas across the enterprise. DoD-wide SORNs also reduce duplicative and overlapping SORNs published by separate DoD components. The creation of DoD-wide SORNs is expected to make locating relevant SORNs easier for DoD personnel and the public and create efficiencies in the operation of the DoD privacy program.

This system covers the military human resource records of Service members across the DoD enterprise, with the exception of the U.S. Coast Guard, wherever they are maintained. These records include finance-related documents and non-service related documents that the Military Services have deemed necessary to store. The system consists of both electronic and paper records and will be used by DoD components and offices to maintain records about personnel management and compensation provided to Service members. These records include information pertaining to most aspects of a Service member's career, including accessions/enlistments (joining), assignments, work history, pay and benefits, separation, and retirement. (Note that Service member training records are maintained in the DoD-0005, Defense Training Records system of records, Dec. 28, 2020, 85 FR 84316). The primary purposes behind this system of records are: supporting manning requirements, determining organizational structure and distribution of personnel, providing logistics and support to the population, budgeting, and other human resource actions necessary to successfully meet DoD's operational readiness and assigned missions.

DoD SORNs have been published in the Federal Register and are available from the address in FOR FURTHER INFORMATION CONTACT or at the Defense Privacy, Civil Liberties, and Freedom of Information Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, DoD has provided a report of this system of records to the OMB and to Congress.

Dated: May 2, 2024.
Aaron T. Siegel,
Alternate OSD Federal Register Liaison Officer, Department of Defense.

SYSTEM NAME AND NUMBER:

Military Human Resource Records, DoD-0020.

SECURITY CLASSIFICATION:

Unclassified and Classified.

SYSTEM LOCATION:

Department of Defense (Department or DoD), located at 1000 Defense Pentagon, Washington, DC 20301-1000, and other Department installations, offices, or mission locations. Information may also be stored within a government-certified cloud, implemented and overseen by the Department's Chief Information Officer (CIO), 6000 Defense Pentagon, Washington, DC 20301-6000.

SYSTEM MANAGER(S):

The system managers are as follows:

A. Deputy Assistant Secretary of Defense for Military Policy, Office of the Under Secretary of Defense (Personnel & Readiness), Deputy Under Secretary of Defense for Manpower and Reserve Affairs, 4000 Defense Pentagon, Washington DC 20301-4000, whsmc-alex.esd.mbx.osd-js-foia-requester-service-center@mail.mil.

B. Department of the Army, Deputy Chief of Staff for Personnel (DCS, G1), 300 Army Pentagon, Room 2E446, Washington, DC 20310-0300; tel: (703) 697-8060.

C. Department of the Air Force, Deputy Chief of Staff for Manpower, Personnel and Services (A1), Pentagon, 1040 Air Force, Room 4E168, 20330; tel: (703) 697-6090.

D. Department of the Navy, Deputy Chief of Naval Operations (Manpower Personnel, Training, and Education), N1/Chief of Naval Personnel, 701 South Courthouse Road, Arlington, VA 22204; tel: (703) 604-2863.

E. Marine Corps Manpower and Reserve Affairs (M&RA), 3280 Russell Rd, Quantico, VA 22134-5103; tel: (703) 784-9012.

AUTHORITY FOR MAINTENANCE OF THE SYSTEM:

10 U.S.C. Subtitle A, Part I, Organization and General Military Powers; 10 U.S.C. Subtitle A, Part II, Personnel, Chapters 31 through 80; 10 U.S.C. Part III, Training and education, Chapters 101 through 113; 10 U.S.C. 113, Secretary of Defense; 10 U.S.C. 115, Personnel strengths: requirement for annual authorization; 10 U.S.C. 115a, Annual defense manpower profile report and related reports; 10 U.S.C. 117, Readiness reporting system; 10 U.S.C. 122, Official registers; 10 U.S.C. 123, Authority to suspend officer personnel laws during war or national emergency; 10 U.S.C. 123a, Suspension of end-strength and other strength limitations in time of war or national emergency; 10 U.S.C. 123b, Forces stationed abroad: limitation on number; 10 U.S.C. 125, Functions, powers, and duties: transfer, reassignment consolidation, or abolition; 10 U.S.C. 129a, General policy for total force management; 10 U.S.C. 129c, Medical personnel: limitations on reductions; 10 U.S.C. 130b, Personnel in overseas, sensitive, or routinely deployable units: nondisclosure of personally identifying information; 10 U.S.C. 136, Under Secretary of Defense for Personnel and Readiness; 10 U.S.C. Chapter 36, Promotion, Separation, and Involuntary Retirement of Officers on the Active-Duty List; 10 U.S.C. Subtitle E, Part III: Promotion and Retention of Officers in the Reserve Active-Status List; 10 U.S.C. 7013, Secretary of the Army; 10 U.S.C. 8013, Secretary of the Navy; 10 U.S.C. 9013; Secretary of the Air Force; 37 U.S.C. 101-1015, Pay and Allowances of the Uniformed Services; 38 U.S.C. Veterans' Benefits Parts I-IV; 10 U.S.C. Chapter 47, Uniform Code of Military Justice; 50 U.S.C. Chapter 49, Military Selective Service; 32 CFR part 47, Active Duty Service for Civilian or Contractual Groups; DoD Instruction (DoDI) 1332.14, Enlisted Administrative Separations; DoDI 1332.30, Commissioned Officers Administrative Separations; DoDI 1336.01, Certificate of Uniformed Service (DD Form 214/5 Series); DoDI 1336.05, Automated Extract of Active Duty Military Personnel Records; DoDI 1336.08, Military Human Resource Records Life Cycle Management; and Executive Order 9397 (SSN).

PURPOSE(S) OF THE SYSTEM:

A. To manage the Military Service workforce, and its operational readiness and assigned mission goals.

B. To support Department and Component force and manning requirements (i.e., size and composition of the force) and organizational structure (i.e., distribution of the force) to meet operational and logistics readiness needs.

C. To document, manage, track, carry out, and oversee a variety of personnel and human resource actions concerning Military Service members, such as promotions; determining status, eligibility, and Service member rights and benefits; and computing length of service.

D. To serve as the basic source of factual data (for example: duty titles, duty locations, performance reports, promotion determinations, administrative actions, etc.) about an individual's Military Service from entrance through separation or retirement.

E. To give legal force and effect to personnel and human resources transactions and establish rights and benefits under pertinent laws and regulations governing the military Services.

F. To ensure appropriate accounting and payment of an individual's pay, leave, or benefits (both during and following separation or retirement from service) while affiliated with the Department of Defense.

G. To support Department funding and fiscal planning requirements, financial reporting, and associated analytical tasks for Department and Component financial, business, and operational needs.

CATEGORIES OF INDIVIDUALS COVERED BY THE SYSTEM:

All current and former members of the armed services, including the National Guard and Reserve; other individuals whose civilian or contract service to the U.S. Armed Forces is recognized as active military service for Department of Veterans Affairs benefits purposes.

Note 1: Human resource records concerning U.S. Military Academy Cadets, Army Reserve Officers' Training Corps contracted Cadets, Officer Candidates, and Enlisted basic trainees are not covered under this system of records until they transition to active, Guard, or Reserve duties. Once the individual has transitioned, those records will be incorporated within this system of records.

Note 2: Records in this system of records may also include information about other individuals who are not covered by the system, such as spouse, dependents, or supporting caregivers for the Military Service member.

Note 3: Human resource records for members of the U.S. Coast Guard are covered under the Department of Homeland Security SORN, DHS/USCG-014 Military Pay and Personnel.

CATEGORIES OF RECORDS IN THE SYSTEM:

The information required to be maintained in standard military human resource records is defined by DoD policy and any pertinent Service-specific regulations. The records include military human resource information and/or data related to a Service member's career. The specific contents of a Service member's records will vary based on the events of their career. The type of information generally maintained in the military human resources records include the following:

A. Personal Information including: Name, DoD ID number. Social Security Number (SSN), addresses, phone numbers, email addresses, date and place of birth, sex, gender, dependent and family member information, biometric information, citizenship, race and ethnic origin, sponsorship and beneficiary information, other biographical information, casualty documentation and funeral preference, religious preference, foreign language skills, to include cultural expertise, and regional proficiency.

B. Service Information including: date and type of enlistment/appointment, rank/specific job code/branch of service, duty position, organization, previous assignments, work contact information, performance information (behavior, discipline related information, and conduct data), promotions, decorations and awards, education and certifications, skill identifiers, readiness and deployment health data, retention data, separation and retirement related information (to include requests for waivers related to foreign government employment and benefits from foreign governments), and security clearance information.

C. Financial Information including: Pay, wage, benefits, earnings and allowances, additional pay (bonuses, special and incentive pays), allotments and other withholdings, such as taxes withheld/paid, debts, and retirement contributions, banking information, leave balances and leave history.

Note 4: Service member training and certification records are covered by the DoD-0005 Defense Training Records system of records.

RECORD SOURCE CATEGORIES:

Records and information stored in this system of records are obtained from:

A. Military Service members, Human Resource personnel, supervisory personnel.

B. Federal, foreign, State, local and other government agencies.

C. All DoD databases flowing into or accessed through the following integrated data systems, environments, applications, and tools: Defense Finance and Accounting Services financial business feeder systems, Defense Manpower Data Center including the Defense Eligibility Enrollment System, Defense Readiness Reporting System (DRRS) enterprise (including DRRS-Strategic and DRRS-Army Database), Defense Personnel Records Information Retrieval System (DPRIS), Integrated Personnel and Pay System—Army, Air Force Integrated Personnel and Pay System, Electronic Military Personnel System, Marine Corps Total Force System.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection evaluation, or other review as authorized by the Inspector General Act of 1978, as amended.

J. To such recipients and under such circumstances and procedures as are mandated by Federal statute or treaty.

K. To the appropriate Federal, State, local, tribal, territorial, foreign, or other public authority in the event of a natural or manmade disaster to (i) provide leads to assist in locating missing individuals or assist in determining the health and safety of the individual and (ii) to assist in identifying victims and locating any surviving next of kin.

L. To other Federal, State, local, tribal, and territorial government agencies when such data is required in the performance of official duties (e.g., military service and benefits determination, compensation, Service member and family support, certifications, credentials, or licensing). Recipient agencies and entities may include but are not limited to the Office of Personnel Management, Social Security Administration, Selective Service Agencies, Department of Veterans Administration, Department of Labor, the Federal Aviation Administration, the Red Cross, and Federally Funded Research and Development Centers.

M. To U.S. military banking facilities (MBFs) for the purpose of obtaining financial services as established by the Department of the Treasury under statutory authority that is separate from State or Federal laws that govern commercial banking.

N. To designated officers and employees of Federal, State, local, territorial, tribal, international, or foreign agencies in connection with the hiring or retention of an employee, the conduct of a suitability or security investigation, the letting of a contract, or the issuance of a license, grant or other benefit by the requesting agency, to the extent that the information is relevant and necessary to the requesting agency's decision on the matter and the Department deems appropriate.

O. To foreign or international law enforcement, security, or investigatory authorities to comply with requirements imposed by, or to claim rights conferred in, international agreements and arrangements, including those regulating the stationing and status in foreign countries of DoD military and civilian personnel.

P. To appropriate Federal, State, local, territorial, tribal, foreign, or international agencies for the purpose of counterintelligence activities authorized by U.S. law or Executive Order, or for the purpose of executing or enforcing laws designed to protect the national security or homeland security of the United States, including those relating to the sharing of records or information concerning terrorism, homeland security, or law enforcement.

POLICIES AND PRACTICES FOR STORAGE OF RECORDS:

Records may be stored electronically or on paper in secure facilities in a locked drawer behind a locked door. Electronic records may be stored locally on digital media; in agency-owned cloud environments; or in vendor Cloud Service Offerings certified under the Federal Risk and Authorization Management Program (FedRAMP).

POLICIES AND PRACTICES FOR RETRIEVAL OF RECORDS:

Records may be retrieved by the Service member's full name and/or DoD ID number, or Social Security Number.

POLICIES AND PRACTICES FOR RETENTION AND DISPOSAL OF RECORDS:

A. Military records of current active, Reserve, or Guard members are maintained in imaged record systems operated by each of the Military Services.

B. Records of inactive Service members are transferred to the National Archives and retained as permanent records 62 years after the Service member's discharge, retirement, or death in service.

ADMINISTRATIVE, TECHNICAL, AND PHYSICAL SAFEGUARDS:

DoD safeguards records in this system of records according to applicable rules, policies, and procedures, including all applicable DoD automated systems security and access policies. DoD policies require the use of controls to minimize the risk of compromise of personally identifiable information (PII) in paper and electronic form and to enforce access by those with a need to know and with appropriate clearances. Additionally, DoD has established security audit and accountability policies and procedures which support the safeguarding of PII and detection of potential PII incidents. DoD routinely employs safeguards such as the following to information systems and paper recordkeeping systems: Multifactor log-in authentication including CAC authentication and password; physical token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

RECORD ACCESS PROCEDURES:

A. For information on active duty, retired and non-unit reserve personnel: Individuals are encouraged to use the Standard Form (SF) 180, Request Pertaining to Military Records, to obtain information from military service records. Individuals should complete the SF-180 and send it to the appropriate records custodian as listed on the final page of the SF-180.

Alternatively, individuals may address written inquiries to the DoD component with oversight of the records, as the component has Privacy Act responsibilities concerning access, amendment, and disclosure of the records within this system of records. The public may identify the contact information for the appropriate DoD office through the following website: www.FOIA.gov. Signed written requests should contain the name and number of this system of records notice along with the full name, SSN, DoD ID number or service identification number if applicable, current address, telephone number, and signature. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

B. For information on discharged and deceased personnel: Individuals must use the form SF-180, Request Pertaining to Military Records, to obtain information from military service records in the National Personnel Records Center (NPRC) (Military Personnel Records) through the submission of an SF-180 or an online records request system. Online requests may be submitted to the NPRC by a veteran or deceased veteran's next-of-kin using eVetRecs at http://www.archives.gov/veterans/military-service-records/.

CONTESTING RECORD PROCEDURES:

The DoD rules for accessing records, contesting contents, and appealing initial agency determinations are contained in 32 CFR part 310.

NOTIFICATION PROCEDURES:

Individuals seeking to determine whether information about themselves is contained in this system of records should follow the instructions for Record Access Procedures above.

EXEMPTIONS PROMULGATED FOR THE SYSTEM:

The DoD has exempted records maintained in this system from 5 U.S.C. 552a(c)(3), (d)(1)-(4), (e)(1), (e)(4)(G), (H), and (I), and (f) of the Privacy Act, pursuant to 5 U.S.C. 552a(k)(1) and (k)(7). In addition, when exempt records received from other systems of records become part of this system, the DoD also claims the same exemptions for those records that are claimed for the prior system(s) of records from which they were a part and claims any additional exemptions set forth here. An exemption rule for this system has been promulgated in accordance with the requirements of 5 U.S.C. 553(b)(1), (2), and (3), and (c), and published in 32 CFR part 310.

HISTORY:

None.

[FR Doc. 2024-09967 Filed 5-14-24; 8:45 am]

BILLING CODE 6001-FR-P